ENVIRONMENTAL PROTECTION AGENCY

[FRL-6948-3]

Agency Information Collection Activities: Submission for OMB Review; Comment Request; Operator Certification Guidelines and Operator Certification Expense Reimbursement Grants Program

AGENCY: Environmental Protection Agency (EPA).

ACTION: Notice.

SUMMARY: In compliance with the Paperwork Reduction Act (44 U.S.C. 3501 et seq.), this notice announces that the following Information Collection Request (ICR) has been forwarded to the Office of Management and Budget (OMB) for review and approval: Operator Certification Guidelines and Operator Certification Expense Reimbursement Grants Program, EPA ICR #1955.01. The ICR describes the nature of the information collection and its expected burden and cost; where appropriate, it includes the actual data collections instrument.

EPA is requesting emergency clearance from OMB for this ICR to allow the collection of documentation on operator certification programs from states so that we may make a decision on whether or not a state's program meets our Operator Certification Guidelines. The ICR also covers the collection of material that states must submit to EPA before we can award Operator Certification Expense Reimbursement Grants. An agency may not conduct or sponsor, and a person is not required to respond to, a collection of information unless it displays a currently valid OMB control number. EPA is requesting a valid control number from OMB through the emergency clearance process. The OMB control number for this ICR will be listed in 40 CFR part 9 and 48 CFR chapter 15.

DATES: Comments must be submitted on or before March 30, 2001.

ADDRESSES: Send comments, referencing EPA ICR #1955.01, to the following: Jenny Jacobs, Drinking Water Protection Division (Mailcode 4606), Office of Ground Water and Drinking Water, U.S. EPA, 1200 Pennsylvania Avenue NW, Washington, D.C., 20460; and to Office of Information and Regulatory Affairs, Office of Management and Budget, Attention: Desk Officer for EPA, 725 17th Street, NW, Washington, DC 20503. Copies of the ICR may be obtained from the Safe Drinking Water Hotline, toll-free at (800) 426-4791. Hours of operation are 9:00 a.m. to 5:30 p.m. (ET), Monday-Friday, excluding Federal holidays.

FOR FURTHER INFORMATION CONTACT: Contact Jenny Jacobs, (202) 260-2939, fax (202) 260-0732, email: jacobs.jenny@epa.gov.

SUPPLEMENTARY INFORMATION: Affected entities: Entities potentially affected by this action are those which own, operate or regulate public water systems but not limited to: Owners/operator of public water systems, State Environmental Water Quality Agencies, State Departments of Health.

Title: Operator Certification Guidelines and Operator Certification Expense Reimbursement Grants Program, EPA ICR #1955.01.

Abstract: The purpose of this information collection is to determine if states are meeting the requirements of EPA's operator certification guidelines. Section 1419(a) of the Safe Drinking Water Act (SDWA) Amendments of 1996 requires to EPA to develop guidelines specifying minimum standards for certification and recertification of operators of community and nontransient noncommunity public water systems and to publish final guidelines by February 6, 1999. The final guidelines were published in the Federal Register on February 5, 1999 (64 FR 5916). Pursuant to section 1419(b) of the SDWA, beginning two years after the date on which EPA publishes guidelines for the certification (and recertification) of operators of community and nontransient noncommunity public water systems (or February 5, 2001), EPA shall withhold 20 percent of the funds a state is otherwise entitled to receive under SDWA section 1452 unless a state has adopted and is implementing a program that meets the requirements of EPA's operator certification guidelines. EPA is required under SDWA section 1419 to make an annual determination on whether to withhold 20 percent of a state's Drinking Water State Revolving Fund (DWSRF) allotment. In order to make these decisions, EPA must collect information from the states as required by EPA's operator certification guidelines. States, in turn, must collect information from water systems as required by their respective programs.

SDWA section 1419(d) requires EPA to reimburse (through grants to states) the costs of training, including an appropriate per diem for unsalaried operators, and certification for persons operating community and nontransient noncommunity public water systems serving 3,300 persons or fewer that are required to undergo training pursuant to EPA's operator certification guidelines. Prior to awarding expense reimbursement grants to states, EPA will need to collect information from states to ensure that the state has a plan for distributing the funds to small system operators.

The EPA would like to solicit comments to:

(i) evaluate whether the proposed collection of information is necessary for the proper performance of the functions of the agency, including whether the information will have practical utility;

(ii) evaluate the accuracy of the agency's estimate of the burden of the proposed collection of information, including the validity of the methodology and assumptions used;

(iii) enhance the quality, utility, and clarity of the information to be collected; and

(iv) minimize the burden of the collection of information on those who are to respond, including through the use of appropriate automated electronic, mechanical, or other technological collection techniques or other forms of information technology, e.g., permitting electronic submission of responses.

Burden Statement: EPA estimates that the cost and burden to states for this ICR is $412,449 and 11,914 hours over the three year period between FY2001 and FY2003. EPA also estimates the cost and burden to public water systems for this ICR is $6,514,596 and 290,511 hours over the three year period between FY2001 and FY2003. The average annual cost and burden per state is $2,695 and 78 hours. On a per system level, an average annual cost and burden of $31 and 2 hours is estimated.

Burden means the total time, effort, or financial resources expended by persons to generate, maintain, retain, or disclose or provide information to or for a Federal agency.

This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: February 16, 2001.
Cynthia C. Dougherty,
Director, Office of Ground Water and Drinking Water.

[FR Doc. 01-4868 Filed 2-27-01; 8:45 am]

BILLING CODE 6560-50-P